FEDERAL COMMUNICATIONS COMMISSION

[GN Docket No. 22-352; FCC 22-80; FR ID 112394]

Expanding Use of the 12.7-13.25 GHz Band for Mobile Broadband or Other Expanded Use

AGENCY: Federal Communications Commission.

ACTION: Notice; extension of temporary application freeze.

SUMMARY: In this document, the Federal Communications Commission (Commission) extends the existing, 180-day freeze on filing certain applications pending the outcome of new proceeding, GN Docket No. 22-352.

DATES: The temporary, 180-day, application freeze was extended on October 28, 2022.

FOR FURTHER INFORMATION CONTACT: Simon Banyai, Broadband Division, Wireless Telecommunications Bureau, (202) 418-1443 or simon.banyai@fcc.gov

SUPPLEMENTARY INFORMATION: This is a summary of the Commission's Order in GN Docket No. 22-352, FCC 22-80, adopted on October 27, 2022, and released on October 28, 2022. The full text of this document is available on FCC's website at https://www.fcc.gov/document/fcc-examine-127-ghz-band-next-gen-wireless-0. To request materials in accessible formats (braille, large print, computer diskettes, or audio recordings), please send an email to FCC504@fcc.gov or call the Consumer & Government Affairs Bureau at (202) 418-0530 (VOICE), (202) 418-0432 (TTY).

Background

On October 28, 2022, the Commission released a Notice of Inquiry and Order, GN Docket No. 22-352, Expanding Use of the 12.7-13.25 GHz Band for Mobile Broadband or Other Expanded Use (FCC 22-80). In the Order portion of this item, the Commission noted that on September 19, 2022, the International, Media, Public Safety and Homeland Security, and Wireless Telecommunications Bureaus (Bureaus) announced a temporary, 180-day, freeze, effective as of September 19, 2022, on filing new or modified applications for licenses in the 12.7 GHz band.¹ The purpose of this freeze was “to preserve the current landscape of authorized operations in the 12.7 GHz band pending the Commission's consideration of actions that might encourage the larger and more effective use of radio in the public interest.” ² The Bureaus noted that “[t]he Commission or the Bureaus may extend the freeze if doing so is deemed necessary to avoid undermining the purpose of the freeze.” ³ In view of the Commission's adoption of the Notice of Inquiry, the accompanying Order extends the temporary freeze pending the outcome of GN Docket No. 22-352. The Bureaus retain jurisdiction to modify the freeze notwithstanding this order.

¹ See 180-Day Freeze On Applications for New Or Modified Authorizations for the 12.7-13.25 GHz Band, Public Notice, DA 22-974 (IB, PSHSB, MB, and WTB Sept. 19, 2022) (Freeze Public Notice), 87 FR 63494 (Oct. 19, 2022).

² Freeze Public Notice at 1.

³ Freeze Public Notice at 1-2.

Ordering Clause

Accordingly, it is ordered that, pursuant to Sections 4(i), 301, 302(a), 303(e), 303(f), and 303(r) of the Communications Act of 1934, as amended, 47 U.S.C. 154(i), 301, 302(a), 303(e), 303(f), and 303(r), this Notice of Inquiry and Order is adopted and effective upon release.

Federal Communications Commission.
Marlene Dortch,
Secretary, Office of the Secretary.

[FR Doc. 2022-24389 Filed 11-8-22; 8:45 am]

BILLING CODE 6712-01-P